DEPARTMENT OF COMMERCE

Foreign-Trade Zones Board

[B-7-2026]

Foreign-Trade Zone (FTZ) 45, Notification of Proposed Production Activity; Qorvo US, Inc.; (Semiconductor Wafers and Modules); Hillsboro, Oregon

Qorvo US, Inc. submitted a notification of proposed production activity to the FTZ Board (the Board) for its facility in Hillsboro, Oregon, within Subzone 45K. The notification conforming to the requirements of the Board's regulations (15 CFR 400.22) was received on January 15, 2026.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: wafers (gallium arsenide; doped gallium arsenide; gallium arsenide amplifier; gallium nitride amplifier); modules (integrated circuit switch; amplifier); multi-layer printed circuit boards; connectors (terminal; printed circuit board); unmounted transistors; integrated circuit-based frequency and signal control units; attenuators; radio frequency integrated circuits; and, semiconductor testing devices (duty rate ranges from duty-free to 2.8%).

The proposed foreign-status materials/components include: wafers (4 inch or 6 inch gallium nitride; 6 inch gallium arsenide; 6 inch doped gallium arsenide; 8 inch doped polycrystalline silicon; 8 inch bulk acoustic wave filter; 6 inch surface acoustic wave filter finished; 6 inch pseudomorphic high electron mobility transistor amplifier; 6 inch heterojunction bipolar transistor amplifier; 6 inch high electron mobility transistor amplifier; 6 inch bipolar heterojunction electron mobility transistor amplifier; 6 inch gallium arsenide amplifier; 4 inch or 6 inch gallium nitride amplifier; 6 inch amplifier module); liquid precious metal replenishers; modified hydrocarbon resin liquid adhesive mixtures; flux removers; pure tin solder cappings; tin solders; corrosion inhibitors for closed cooling and heating systems; tapes (ultraviolet; carrier); plastic wafer trays; semiconductor tape reels; pre-form pastes for gold-to-gold bonding; pellets (gold; platinum; non-alloy nickel; titanium; germanium); sputtering targets (nickel; germanium; titanium; tungsten; nickel chromium silicon); wafer frames; amplifiers (power with duplexer integrated circuits; balanced X band gallium nitride low noise; feedback; heterojunction bipolar transistor broadband feedback; monolithic microwave integrated circuit; variable gain; driver); circuit boards (multi-layer printed; semiconductor testing device); connectors (terminal; printed circuit board); unmounted transistor modules; filters (high pass; low pass); circuits (silicon-on-insulator switch; up/down converter); complementary metal-oxide semiconductors; bias controllers; solid state power amplifier drivers; attenuators; digital attenuators; transistors (discrete; power); doublers (power; frequency); limit switches; heat sinks; beamformers; phase shifters; and, semiconductor testing devices (duty rate ranges from duty-free to 6.0%).

The request indicates that certain materials/components are subject to duties under section 1702(a)(1)(B) of the International Emergency Economic Powers Act (section 1702), section 232 of the Trade Expansion Act of 1962 (section 232), or section 301 of the Trade Act of 1974 (section 301), depending on the country of origin. The applicable section 1702, section 232, and section 301 decisions require subject merchandise to be admitted to FTZs in privileged foreign status (19 CFR 146.41).

Public comment is invited from interested parties. Submissions shall be addressed to the Board's Executive Secretary and sent to: ftz@trade.gov. The closing period for their receipt is March 3, 2026.

A copy of the notification will be available for public inspection in the “Online FTZ Information System” section of the Board's website.

For further information, contact Juanita Chen at juanita.chen@trade.gov.

Dated: January 16, 2026.
Elizabeth Whiteman,
Executive Secretary.

[FR Doc. 2026-01110 Filed 1-21-26; 8:45 am]

BILLING CODE 3510-DS-P